DEPARTMENT OF DEFENSE

Department of the Army

[Docket ID USA-2022-HQ-0012]

Proposed Collection; Comment Request

AGENCY: U.S. Army Corps of Engineers, Department of Defense (DoD).

ACTION: 60-Day information collection notice.

SUMMARY: In compliance with the Paperwork Reduction Act of 1995, the U.S. Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 22, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, 441 G Street NW, Washington, DC 20314-1000, ATTN: Ms. Kathryn Nevins, or call 703-428-6440.

SUPPLEMENTARY INFORMATION: Title; Associated Form; and OMB Number: Recreation Area and Visitor Center Visitor Comment Cards; OMB Control Number 0710-0019.

Needs and Uses: The information collection requirement is necessary to understand and determine the satisfaction of recreation visitors to U.S. Army Corps of Engineers managed recreation areas and visitor centers.

Affected Public: Individuals or households.

Annual Burden Hours: 3,750.

Number of Respondents: 45,000.

Responses per Respondent: 1.

Annual Responses: 45,000.

Average Burden per Response: 5 minutes.

Frequency: On occasion.

Respondents to this collection of information via comment cards are public visitors to U.S. Army Corps of Engineers Recreation Areas. Participation is voluntary. Comment cards are distributed via two methods. In a rack, for example at a visitor center or kiosk, resulting in visitor initiated response, or scheduled surveys where visitors are intercepted by a survey clerk. The respondent is selected from exiting visitors where one member of the party is asked to complete the card and return to the survey clerk. Recreation areas where comment cards are used, meet visitation and funding thresholds or a local administrative need. Survey Clerks are staff or U.S. Army Corps of Engineers trained volunteers. Visitors are asked questions in the following categories; previous visits, area information sources, fees charged, facilities used, facility rating, and demographics.

Dated: May 17, 2022.
Aaron T. Siegel,
Alternate OSD Federal Register Liaison Officer, Department of Defense.

[FR Doc. 2022-11033 Filed 5-20-22; 8:45 am]

BILLING CODE 5001-06-P